DEPARTMENT OF ENERGY

Federal Energy Regulatory Commission

[Docket No. CP05-50-000]

Colorado Interstate Gas Company; Notice of Application

January 18, 2005.

Take notice that on January 12, 2005, Colorado Interstate Gas Company (CIG), Post Office Box 1087, Colorado Springs, Colorado 80944, filed in the above referenced docket an application pursuant to section 7(c) of the Natural Gas Act (NGA), and part 157 of the Commission's regulations for an order granting a certificate of public convenience to construct and operate looping pipeline, compression facilities and appurtenances located in Oklahoma, Kansas and Colorado, as part of its Raton Basin 2005 Expansion Project, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Specifically, CIG proposes to construct, and operate approximately 64.4 miles of 16-inch diameter pipeline, approximately 6.7 miles of 20-inch diameter pipeline and approximately 31 miles of 24-inch diameter pipeline in Las Animas and Baca Counties, Colorado, Morton County, Kansas and Texas County, Oklahoma. Additionally, CIG proposes to recylinder two compressor units at its Kim Compressor Station in Las Animas County, Colorado and install an additional 1,770 HP compressor unit at its Beaver County Compressor Station in Beaver County, Oklahoma. Finally, CIG proposes certain appurtenances all necessary to handle the increased volumes anticipated out of the Raton Basin. Total costs are estimated to be approximately $60.6 million.

Any questions concerning this application may be directed to Robert T. Tomlinson, Director, Regulatory Affairs, Colorado Interstate Company, P.O. Box 1087, Colorado Springs, Colorado 80944 at (719) 520-3788 or by fax at (719) 667-7534 or Craig V. Richardson, Vice President and General Counsel, Colorado Interstate Company, P.O. Box 1087, Colorado Springs, Colorado 80944 at (719) 520-4929 or by fax at (719) 520-4898.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the Internet in lieu of paper. See 18 CFR 385.2001(a)(1)(iii) and the instructions on the Commission's Web site (http://www.ferc.gov) under the “e-Filing” link.

Comment Date: March 7, 2005.

Magalie R. Salas,
Secretary.

[FR Doc. E5-299 Filed 1-25-05; 8:45 am]

BILLING CODE 6717-01-P